DEPARTMENT OF THE TREASURY

Submission for OMB Review; Comment Request

September 12, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 21, 2002 to be assured of consideration.

Internal Revenue Service

OMB Number: 1545-1150.

Form Number: IRS Form 990-EZ.

Type of Review: Extension.

Title: Short Form Return of Organization Exempt from Income Tax.

Description: Form 990-EZ is needed to determine that the Internal Revenue Code section 501(a) tax-exempt organizations fulfill the operating conditions within the limitations of their tax exemption. IRS uses the information from this form to determine if the filers are operating within the rules of their exemption.

Respondents: Not-for-profit institutions.

Estimated Number of Respondents/Recordkeepers: 124,184.

Estimated Burden Hours Per Respondent/Recordkeeper:

Form/schedule | Recordkeeeping | Learning about the law or the form | Preparing the form | Copying, assembling, and sending the form to the IRS
990 | 98 hr., 17 min | 15 hr., 10 min | 21 hr., 10 min | 1 hr., 4 min.
990-EZ | 28 hr., 56 min | 11 hr., 39 min | 14 hr., 30 min | 32 min.
Schedule A (990 or 990-EZ) | 50 hr., 13 min. | 9 hr., 26 min | 10 hr., 40 min | 0
Schedule B (990, 990-EZ or 990-PF) | 4 hr., 46 min. | 1 hr., 23 min. | 1 hr., 31 min. | 0

Frequency of Response: Annually.

Estimated Total Reporting/Recordkeeping Burden: 6,909,598 hours.

Clearance Officer: Glenn Kirkland, (202) 622-3428, Internal Revenue Service, Room 6411-03, 1111 Constitution Avenue, NW., Washington, DC 20224.

OMB Reviewer: Joseph F. Lackey, (202) 395-7316, Office of Management and Budget, Room 10235, New Executive Office Building, Washington, DC 20503.

Mary A. Able,
Departmental Reports Management Officer.

[FR Doc. 02-23782 Filed 9-18-02; 8:45 am]

BILLING CODE 4830-01-P